DEPARTMENT OF TRANSPORTATION

Saint Lawrence Seaway Development Corporation

Advisory Board; Notice of Meeting: Change of Date

Pursuant to section 10(a)(2) of the Federal Advisory Committee Act (Pub. L. 92-463; 5 U.S.C. App. I) notice is hereby given of the meeting of the Advisory Board of the Saint Lawrence Seaway Development Corporation (SLSDC) originally scheduled to be held at 11 AM on Wednesday, August 28, 2002, will now be held at 11 AM on Wednesday, September 11, 2002, by conference call in the Administrator's Office, room 5424, 400 7th Street, SW., Washington, DC. The agenda for this meeting will be as follows: Opening Remarks; Consideration of Minutes of Past Meeting; Review of Programs; New Business; and Closing Remarks.

Attendance at meeting is open to the interested public but limited to the space available. With the approval of the Administrator, members of the public may present oral statements at the meeting. Persons wishing further information should contact not later than September 6, 2002, Marc C. Owen, Chief Counsel, Saint Lawrence Seaway Development Corporation, 400 Seventh Street, SW., Washington, DC 20590; 202-366-6823.

Any member of the public may present a written statement to the Advisory Board at any time.

Issued at Washington, DC, on August 19, 2002.
Marc C. Owen,
Chief Counsel.

[FR Doc. 02-21474 Filed 8-21-02; 8:45 am]

BILLING CODE 4910-61-P